DEPARTMENT OF ENERGY

Federal Energy Regulatory Commission

[Docket No. RP99-518-012]

PG&E Gas Transmission, Northwest Corporation; Notice of Proposed Changes in FERC Gas Tariff

April 5, 2000.

Take notice that on March 31, 2000, PG&E Gas Transmission, Northwest Corporation (PG&E GT-NW) tendered for filing as part of its FERC Gas Tariff, First Revised Volume No. 1-A, with an effective date of April 1, 2000:

Eighth Revised Sheet No. 7

Fifth Revised Sheet No. 7A

Original Sheet No. 7B

PG&E GT-NW states that these sheets are being filed to reflect the implementation of a eight negotiated rate agreements.

PG&E GT-NW states that copies of this filing has been served on PG&E GT-NW's jurisdictional customers, and interested state regulatory agencies.

Any person desiring to be heard or to protest said filing should file a motion to intervene or a protest with the Federal Energy Regulatory Commission, 888 First Street, NE, Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Docket No. RP99-518-012 Commission and are available for public inspection in the Public Reference Room. This filing may be viewed on the web at http://www.ferc.fed.us/online/rims.htm (call 202-208-2222 for assistance).

Linwood A. Watson, Jr.,
Acting Secretary.

[FR Doc. 00-8907 Filed 4-10-00; 8:45 am]

BILLING CODE 6717-01-M